DEPARTMENT OF HEALTH AND HUMAN SERVICES

Centers for Disease Control and Prevention

[30Day-13-12MQ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Evaluation of the Young Sisters Initiative: A Guide to A Better You! Program—New—National Center for Chronic Disease Prevention and Health Promotion (NCCDPHP), Centers for Disease Control and Prevention (CDC).

Background and Brief Description

In 2010, the Centers for Disease Control and Prevention (CDC) launched the three-year Breast Cancer in Young Women (BCYW) project to raise awareness about these issues among young breast cancer survivors (YBCS) and to provide psychosocial and reproductive health support to women who are diagnosed before age 45. A key component of the BCYW program is the design, testing, implementation and evaluation of the Young Sisters Initiative: A Guide to a Better You (YSI) program. The YSI program is a web-based intervention designed to provide African American YBCS with culturally tailored psychosocial and reproductive health information to support their needs as cancer survivors.

CDC plans to conduct a process evaluation of YSI program implementation in conjunction with Sisters Network Inc. (SNI), a partner organization, and ICF International, an evaluation contractor. Information will be collected to assess whether the YSI program can be implemented with fidelity; reach its target audience of African American YBCS; and deliver effective psychosocial and reproductive health information and support. The process evaluation will also collect information to improve understanding of facilitators and barriers to YSI program recruitment and implementation, and to assess how the program might be adapted for use with other audiences.

Primary information collection will consist of two Web-based surveys of YSI program users, conducted before and after exposure to YSI program materials. The initial five-minute demographic screener will be conducted when users encounter the YSI Web site. Respondents will be asked to provide demographic and health information necessary for identifying members of the target YSI program audience, and to indicate their willingness to complete a brief online post-use survey one to two weeks after their initial YSI program Web site visit. The post-use survey will be conducted after YSI Web site users have time to review the site and materials. The estimated burden for the post-use survey is 20 minutes. Respondents will be asked questions about the usefulness of resources posted on the YSI Web site and satisfaction with the site. No personally identifiable information will be collected.

Two secondary sources of information will be used to supplement the process evaluation data collection, but will not impose burden on YSI Web site users. First, CDC's evaluation contractor will use information obtained through Google Analytics to assess how visitors (particularly the target audience) navigate and use the YSI Web site. In addition, the evaluation contractor will conduct a limited number of telephone interviews with SNI staff and SNI-identified recruitment partners before and after the YSI implementation to assess fidelity to the YSI program core components and identify any facilitators and/or barriers experienced during program implementation.

CDC will use the results of the process evaluation to inform future efforts to support and educate YBCS in vulnerable/minority populations. OMB approval is requested for one year. Participation in the information collection is voluntary, and there are no costs to respondents other than their time. The total estimated annualized burden hours are 142.

Estimated Annualized Burden Hours
Type of respondents | Form name | Number of respondents | Number of responses per respondent | Average burden per response (in hr)
YSI Web Site Users | YSI Program Demographic Screener | 500 | 1 | 5/60
| YSI Program Post-Use Survey | 300 | 1 | 20/60

Dated: October 2, 2012.
Ron A. Otten,
Director, Office of Scientific Integrity (OSI), Office of the Associate Director for Science (OADS), Office of the Director, Centers for Disease Control and Prevention.

[FR Doc. 2012-24765 Filed 10-5-12; 8:45 am]

BILLING CODE 4163-18-P